DEPARTMENT OF JUSTICE

[CPCLO Order No. 006-2011]

Privacy Act of 1974; System of Records

AGENCY: Federal Bureau of Prisons, Department of Justice.

ACTION: Notice of Modification of a System of Records.

SUMMARY: Pursuant to the Privacy Act of 1974 (5 U.S.C. 552a), notice is given that the Federal Bureau of Prisons (Bureau) proposes to modify in part its system of records entitled “Inmate Electronic Message Record System, JUSTICE/BOP-013,” last published in the Federal Register, 70 FR 69594 (Nov. 16, 2005), with a revision to the routine uses 72 FR 3410 (Jan. 25, 2007).

The Bureau is making the following modifications to the system notice: the “System Location” section—the Bureau deletes language relating to the pilot programs as they will be converted to normal programs in the near future. The Bureau also clarifies that records may be retained at any authorized location in addition to Bureau facilities and authorized contractor sites. In the “Category of Records” section, the Bureau clarifies that the system collects personal identification information of the message recipient, including postal address, as input by the inmate correspondent. This modification is necessary to accurately reflect the collection and use of information in this system. Also, in the “Category of Records” section, the Bureau clarifies that “investigatory data” can include background checks of correspondents or any other relevant information collected during an investigation by the Bureau or other law enforcement agency. Once more, this modification is necessary to accurately reflect the collection and use of information in this system. Finally, the Bureau adds the “Security Classification” section to the notice.

DATES: In accordance with 5 U.S.C. 552a(e)(4) and (11), the public is given a 30-day period in which to comment. Therefore, please submit any comments by January 20, 2012.

ADDRESSES: The public, Office of Management and Budget (OMB), and Congress are invited to submit comments to the Department of Justice, ATTN: Privacy Analyst, Office of Privacy and Civil Liberties, National Place Building, 1331 Pennsylvania Avenue NW., Suite 1000, Washington, DC 20530-0001, or by facsimile at (202) 307-0693.

FOR FURTHER INFORMATION CONTACT: Sarah Qureshi, Federal Bureau of Prisons, (202) 307-2105.

In accordance with 5 U.S.C. 552a(r), the Department has provided a report to OMB and Congress on the modified system of records.

Dated: November 30, 2011.
Nancy C. Libin,
Chief Privacy and Civil Liberties Officer, United States Department of Justice.

JUSTICE/BOP-013

SYSTEM NAME:

Inmate Electronic Message Record System.

SECURITY CLASSIFICATION:

Unclassified.

SYSTEM LOCATION:

Records will be retained at any of the Federal Bureau of Prisons (Bureau) facilities nationwide, at any location operated by a contractor authorized to provide computer and/or electronic message service to Bureau inmates, or at any other authorized location. A list of Bureau facilities may be found at 28 CFR part 503 and on the Internet at http://www.bop.gov.

* * * * *

CATEGORIES OF RECORDS IN THE SYSTEM:

Records in this system include: (1) Personal identification data; (2) time usage data; (3) electronic message data, including date and time of each electronic message; the name and register number of the inmate who sent the electronic message; personal information of the message recipient, including postal address; and the electronic address of the message recipient and his/her relationship to the inmate, digital and compact disc recordings of electronic messages; and (4) investigatory data, which includes any background checks of correspondents or any other relevant information collected during an investigation by the BOP or other law enforcement agency, developed internally as well as any related data collected from federal, state, local, tribal and foreign law enforcement agencies, and from federal and state probation and judicial officers.

* * * * *

[FR Doc. 2011-32638 Filed 12-20-11; 8:45 am]

BILLING CODE 4410-05-P